FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than June 23, 2014.

A. Federal Reserve Bank of Philadelphia (William Lang, Senior Vice President) 100 North 6th Street, Philadelphia, Pennsylvania 19105-1521:

1. Mark J. Baiada, individually and as part as a group acting in concert with Ann Baiada, both of Moorestown, New Jersey; Michael Baiada; the 1994 Baiada Family Trust and Michael Baiada as Trustee, all of Evergreen, Colorado; L. Mathew and Janet Baiada, both of Moorestown, New Jersey; Paul Melan Baiada, the Paul Melan Baiada 1999 Family Trust and Diane Baiada, as Trustee, the Baiada Trust for the Benefit of Caitlin Baiada, and Diane Baiada, all of Moorestown, New Jersey; Michael Baiada, Evergreen, Colorado, as Trustees, the Baiada Trust for the Benefit of Emma Baiada; Diane Baiada, both of Moorestown, New Jersey; and Michael Baiada, Evergreen, Colorado, as Trustees, and OceanFirst Bank, as the Voting Trustee of the J. Mark Baiada Voting Trust, Toms River, New Jersey; to acquire voting shares of Cornerstone Financial Corporation, and thereby indirectly acquire voting shares of Cornerstone Bank, both in Mount Laurel, New Jersey.

Board of Governors of the Federal Reserve System, June 3, 2014.
Michael J. Lewandowski,
Associate Secretary of the Board.

[FR Doc. 2014-13250 Filed 6-6-14; 8:45 am]

BILLING CODE 6210-01-P